SECURITIES AND EXCHANGE COMMISSION

[File No. 1-14609]

Issuer Delisting; Notice of Application To Withdraw From Listing and Registration on the American Stock Exchange LLC (Excel Legacy Corporation, 9.0% Convertible Redeemable Subordinated Debentures (due 2004) and 10.0% Senior Redeemable Notes (due 2004))

October 24, 2001.

Excel Legacy corporation, a Delaware Corporation (“Issuer”), has filed an application with the Securities and Exchange Commission (“Commission”), pursuant to section 12(d) of the Securities Exchange Act of 1934 (“Act”) ¹ and Rule 12d2-2(d) thereunder,² to withdraw its 9.0% Convertible Redeemable Subordinated Debentures (due 2004) and 10.0% Senior Redeemable Notes (due 2004) (“Securities”), from listing and registration on the American Stock Exchange LLC (“Amex”).

¹ 15 U.S.C. 78l(d).

² 17 CFR 240.12d2-2(d).

The Issuer stated in its application that it has met the requirements of Amex Rule 18 by complying with all applicable laws in effect in the State of Delaware, in which it is incorporated and with the Amex's rules governing an issuer's voluntary withdrawal of a security from listing and registration. The issuer's application relates solely to the Securities' withdrawal from listing and registration under section 12(b) of the Act ³ and shall not affect its obligation to be registered under section 12(g) of the Act.⁴

³ 15 U.S.C. 78l(b).

⁴ 15 U.S.C. 78l(g).

On September 28, 2001, the Issuer merged with Price Legacy Corporation, formerly known as Price Enterprises, Inc. On October 9, 2001, the Board of Directors of the Issuer approved resolutions to withdraw the Issuer's Securities from listing on the Amex. In making the decision to withdraw the Securities from listing on the Exchange, the Issuer considered the limited principal amount of Securities outstanding, the limited number of shareholders, and the additional expense of listing on the Amex.

Any interested person may, on or before November 13, 2001, submit by letter to the Secretary of the Securities and Exchange commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Margaret H. McFarland,
Deputy Secretary.

[FR Doc. 01-27192 Filed 10-24-01; 4:39 pm]

BILLING CODE 8010-01-M